DEPARTMENT OF AGRICULTURE

Forest Service

Clarification of Direction on Safety Priorities During Wildland Firefighting Activities

AGENCY: Forest Service, USDA.

ACTION: Notice of issuance of agency interim directives.

SUMMARY: The Forest Service is issuing three interim directives to provide internal administrative direction to guide its employees during wildland firefighting activities. These interim directives are issued to Forest Service Manual (FSM) chapters FSM 5100 zero code (ID 5100-2003-1); FSM 5120, Preparedness (ID 5100-2003-2); and FSM 5130, Wildland Fire Suppression (ID 5130-2003-3). The ID's clarify existing direction to ensure that the safety of firefighters, other personnel, and the public is always the first priority in fire suppression. While this is already the current agency policy, the agency believes that the direction should be clarified and better stated. The agency will consider any comments received in the development of final directives.

DATES: The interim directives are effective April 24, 2003.

ADDRESSES: The interim directives are available electronically from the Forest Service via the World Wide Web/Internet at http://www.fs.fed.us/im/directives. Single paper copies of the interim directives also are available by contacting Shelly Steen, National Interagency Fire Center, 3833 South Development Avenue, Boise, Idaho 83705 (telephone 208-387-5100). Members of the public who wish to comment on the interim directives may mail their written comments in paper format to this address or send them electronically to directivecomment@fs.fed.us.

FOR FURTHER INFORMATION CONTACT: Shelly Steen, National Interagency Fire Center (208-387-5100) or Tina Kingsberry, Fire and Aviation Management Staff, Forest Service, USDA (202-205-1205).

Dated: April 4, 2003.
Dale N. Bosworth,
Chief, Forest Service, USDA.

[FR Doc. 03-10108 Filed 4-23-03; 8:45 am]

BILLING CODE 3410-11-P